DEPARTMENT OF TRANSPORTATION

Research and Special Programs Administration

[Docket No. RSPA-01-8587, Notice No. 01-09]

Safety Advisory: Unauthorized Marking of Compressed Gas Cylinders

AGENCY: Research and Special Programs Administration (RSPA), DOT.

ACTION: Safety advisory notice.

SUMMARY: This is to notify the public that RSPA is investigating the unauthorized marking of high-pressure compressed gas cylinders by Underwater Adventures, 400 West Magnolia, Leesburg, Florida, 32757. RSPA has determined that Underwater Adventures marked and certified an undetermined number of cylinders as being properly tested in accordance with the Hazardous Materials Regulations (HMR), when the cylinders were improperly tested.

A hydrostatic retest and visual inspection, conducted as prescribed in the HMR, are used to verify the structural integrity of a cylinder. If the hydrostatic retest and visual inspection are not performed in accordance with the HMR, a cylinder with compromised structural integrity may be returned to service when it should be condemned. Extensive property damage, serious personal injury, or death could result from rupture of a cylinder. Cylinders that have not been retested in accordance with the HMR may not be charged or filled with compressed gas or other hazardous material.

FOR FURTHER INFORMATION CONTACT: Cheryl K. Johnson, Senior Inspector, Southern Region, Office of Hazardous Materials Enforcement, Research and Special Programs Administration, U.S. Department of Transportation, 1701 Columbia Avenue, Suite 520, College Park, GA 30337. Telephone: (404) 305-6120, Fax: (404) 305-6125.

SUPPLEMENTARY INFORMATION: Through its inspection of Underwater Adventures, RSPA has determined that Underwater Adventures marked and certified an undetermined number of cylinders as having been properly tested in accordance with the HMR, without properly retesting the cylinders. In addition, Underwater Adventures marked an undetermined number of cylinders with a Retester Identification Number (RIN) that belongs to another company. In 1981, Underwater Adventures was issued RIN B095. That RIN authorization expired on June 24, 1986. Underwater Adventures has never renewed its RIN authorization and has been servicing cylinders without holding a RIN since 1986. During the inspection, Underwater Adventures was unable to calibrate its test equipment. In addition, Underwater Adventures failed to keep any records of its retest and reinspections; thus, it is impossible to determine the number of cylinders that Underwater Adventures improperly tested. These cylinders may pose a safety risk to the public.

The cylinders in question are stamped with one of the following two RINs: B095 or B059. The markings appear in the following pattern:

(1)

B0
M Y
59

(2)

B0
M Y
95

M is the month of retest (e.g. 10), and Y is the year of the retest (e.g. 01).

On May 19, 1981, RSPA issued RIN B059 to Safety Systems of Biloxi, Inc., P.O. Drawer 6039, 10970 Old Highway 67, Biloxi, Mississippi 39532-6039. Safety Systems renewed this RIN on March 12, 2001, and is the only authorized user of that RIN. Any cylinder marked and serviced by Safety Systems of Biloxi, Inc. is not covered by this safety advisory.

Anyone who has a cylinder that has been serviced by Underwater Adventures and that is marked with RIN numbers B095 or B059 and stamped with a retest date after 1986 should consider the cylinder unsafe and not fill it with a hazardous material unless the cylinder is first properly retested by a DOT-authorized retest facility. Filled cylinders (if filled with an atmospheric gas) described in this safety advisory should be vented or otherwise safely discharged, and then taken to a DOT-authorized cylinder retest facility for proper retest to determine compliance with the HMR and their suitability for continuing service. Under no circumstance should a cylinder described in this safety advisory be filled, refilled or used for its intended purpose until it is reinspected and retested by a DOT-authorized retest facility.

It is further recommended that persons finding or possessing a cylinder described in this safety advisory contact Ms. Johnson for additional information.

Issued in Washington, DC on August 30, 2001.
Frits Wybenga,
Deputy Associate Administrator for Hazardous Materials Safety.

[FR Doc. 01-22398 Filed 9-5-01; 8:45 am]

BILLING CODE 4910-60-P